NATIONAL AERONAUTICS AND SPACE ADMINISTRATION

Notice of Information Collection

AGENCY: National Aeronautics and Space Administration (NASA).

NOTICE: (12-004).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Ms. Frances Teel, National Aeronautics and Space Administration, Washington, DC 20546-0001.

FOR FURTHER INFORMATION CONTACT: Requests for additional information or copies of the information collection instrument(s) and instructions should be directed to Frances Teel, NASA Clearance Officer, NASA Headquarters, 300 E Street SW., JF000, Washington, DC 20546, Frances.C.Teel@nasa.gov.

SUPPLEMENTARY INFORMATION:

I. Abstract

In accordance with the President's initiative to create opportunities to advance science, technology, engineering, and mathematics (STEM) education, this clearance request pertains to the collection of information associated with the administration of electronic application/registration/volunteer forms, parental consent forms, media release forms, safety rules acknowledgement forms, and participant feedback forms for the NASA Great Moonbuggy Race. This vehicular engineering experience connects classroom training to tangible activities that enable practical application of STEM disciplines, cultivates innovative thinking, and embraces teamwork. This event is inspired by the original lunar rover that piloted across the Moon's surface in the early 1970's during Apollo 15, 16, and 17 missions. Participation is voluntary and targets high school and college students. Registration is required to participate.

II. Method of Collection

Electronic and Paper.

III. Data

Title: NASA Great Moonbuggy Race.

OMB Number: 2700-XXXX.

Type of review: Existing collection in use without OMB Control Number.

Affected Public: Individuals or households, local government, private sector.

Estimated Number of Respondents: 1,765.

Estimated Time per Response: Variable.

Estimated Total Annual Burden Hours:

Estimated Total Annual Cost: $16,460.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2013-01648 Filed 1-25-13; 8:45 am]

BILLING CODE 7510-13-P